DEPARTMENT OF HOMELAND SECURITY

Coast Guard

33 CFR Part 165

[Docket No. USCG-2025-1056]

Safety Zone; Stage Nine Entertainment, Sacramento NYE Fireworks, CA

AGENCY: Coast Guard, DHS.

ACTION: Notification of enforcement of regulation.

SUMMARY: The Coast Guard will enforce the safety zone for the Stage Nine Entertainment, Sacramento New Year's Eve Fireworks display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM) or other federal, state, or local law enforcement agencies assisting the Coast Guard in enforcing the regulated area.

DATES: The regulations in 33 CFR 165.1191, will be enforced for the location in Table 1 to § 165.1191, Item number 25, from 8:30 p.m. through 9:45 p.m. on December 31, 2025.

FOR FURTHER INFORMATION CONTACT: If you have questions about this notification of enforcement, call or email MST2 Erik Nadal, U.S. Coast Guard Sector San Francisco, Waterways Management Division; telephone (415) 399-7440, email SFWaterways@uscg.mil.

SUPPLEMENTARY INFORMATION: The Coast Guard will enforce the safety zone established in 33 CFR 165.1191 Table 1, Item number 25, for the Stage Nine Entertainment, Sacramento New Year's Eve Fireworks display from 8:30 p.m. through 9:45 p.m. on December 31, 2025.

The safety zone will extend to all navigable waters of Sacramento River, from surface to bottom, within a circle formed by connecting all points 700 feet of the Delta King Hotel (38.582805°, −121.506880°), located near the Tower Bridge in Sacramento, CA. This zone will be in effect starting from 8:30 p.m., which is 30 minutes prior to the fireworks display scheduled to begin at approximately 9 p.m. and conclude at 9:45 p.m. on December 31, 2025.

In addition to this notification of enforcement in the Federal Register, the Coast Guard plans to provide notification of this enforcement period via the Local Notice to Mariners and Broadcast Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person granted permission to enter the zone who receives notice of a lawful order or direction issued by the PATCOM or Official Patrol must obey the order or direction. The PATCOM or Official Patrol, may, upon request, allow the transit of commercial vessels through regulated areas when it is safe to do so.

If the Captain of the Port determines that the regulated area need not be enforced for the full duration stated in this notice, a Broadcast Notice to Mariners may be used to grant general permission to enter the regulated area.

Jordan M. Baldueza,
Captain, U.S. Coast Guard, Captain of the Port San Francisco.

[FR Doc. 2025-23551 Filed 12-19-25; 8:45 am]

BILLING CODE 9110-04-P